DEPARTMENT OF AGRICULTURE

Forest Service

Malheur National Forest, Oregon; Malheur National Forest Invasive Plants Treatment

AGENCY: Forest Service, USDA.

ACTION: Notice of intent to prepare an environmental impact statement.

SUMMARY: The Malheur National Forest proposes to treat approximately 3,800 acres of invasive plants located across the 1.7 million acre National Forest. It is anticipated that approximately 800 acres of both existing and newly discovered sites would be treated in any year. The proposed treatment methods includes: manual pulling or use of hand tools, use of mechanical hand tools, herbicide, cultural methods such as grazing or mulching, and biological controls. The method used would depend on resource protection concerns for a given site.

DATES: Comments concerning the scope of the analysis must be received by May 1, 2006. The draft environmental impact statement is expected in March, 2007 and the final environmental impact statement is expected in September, 2007.

ADDRESSES: Send written comments about this project to Stan Benes, Forest Supervisor, Malheur National Forest, P.O. Box 909, John Day OR 97845. Electronic comments can be mailed to: comments-pacificnorthwest-malheur@fs.fed.us.

FOR FURTHER INFORMATION CONTACT: Carole Holly, Project Leader, Phone: 541-575-3026 or e-mail: cholly@fs.fed.us.

SUPPLEMENTARY INFORMATION:

Purpose and Need for Action

The Purpose of this action is to provide a rapid and more comprehensive, up to date approach to the treatment of invasive plants that occur on the National Forest. The purpose of treating weed infestations is to maintain or improve the diversity, function, and sustainability of desired native plant communities and other natural resources that can be adversely impacted by invasive plant species. Specifically, there is an underlying need on the Forest to: (1) implement treatment actions to contain and reduce the extent of invasive plants at existing inventoried sites, and (2) rapidly respond to new or expanded invasive plant sites as they may occur in the future.

Proposed Action

A detailed project description can be found on the Malheur National Forest Web page at http://www.fs.fed.us/r6/mai/projects.

Various types of treatments would be used to treat invasive plants including the use of herbicides, physical, and biological methods. Treatments are proposed for existing or new infestations including new plant species that currently are not found on the Forest. Potential treatments based on existing mapped sites include: Biological methods on approximately 1 acre; Chemical/non riparian methods on approximately 904 acres; Chemical/riparian methods on approximately 553 acres; and Physical methods on 2,404 acres.

Herbicide Treatments: Any use of Chemicals would be done in accordance with USDA Forest Service policies, regulations and Forest Plan Standards as well as product label requirements. Chemicals approved for use, within or outside riparian areas, are listed in the Pacific Northwest Region Invasive Plant Program Preventing and Managing Invasive Plants FEIS (Regional Invasive Plant EIS), April 2005 and ROD and includes: Chlorosulfuron, clopyralid, glyphosate, imazapic, imazapyr, metsulfuron methyl, picloram, sethroxydim, sulfometuron methyl, and triclopyr. The application rates depend on the presence of the target species, condition of non-target vegetation, soil type, depth to the water table, the distance to open water sources, riparian areas, special status plants, and requirements of the herbicide label. Monitoring of treated sites would determine what follow-up treatments would be needed.

Ground based application methods would be used based on accessibility, topography, and the size of treatment area. The following are examples of the proposed methods of application:

• Spot spraying—This method targets individual plants and is usually applied with a backpack sprayer. Spot Spraying can also be applied using a hose off a truck-mounted or ATV-mounted tank.

• Wicking—This hand method involves wiping a sponge or cloth that is saturated with chemical over the plant. This is used in sensitive areas, such as near water, to avoid getting any chemical on the soil or in contact with non-target vegetation.

• Stem injection—A new hand application technique currently being used on Japanese knotweed in western OR.

• Hand broadcast—Herbicide would be applied by hand using a backpack or hand spreader to cover in area of ground rather than individual plants.

• Boom broadcast—This involves using a hose and nozzle from a tank mounted on a truck or ATV. Herbicide is applied to cover an area of ground rather than individual plants. This method is used when the weed is dense enough that it is difficult to discern individual plants and the area to be treated makes spot spraying impractical. This would be the method used for aerial applications.

When needed to facilitate recovery, native seed would be used to recover the site and increase competition.

Use of Physical Treatments: Physical methods include manual control, hand mechanical and cultural methods.

Manual Control Methods: These methods include non-mechanized approaches, such as hand pulling or using hand tools (e.g., grubbing), to remove plants or cut off seed heads. Where sites are small or there are few individual target species, handsaws, axes, shovel, rakes, machetes, grubbing hoes, mattocks, brush hooks, and hand clippers may all be used to remove invasive plant species. To meet control objectives or reduce the risk of activities spreading invasive plants, seed heads and flowers would be removed and disposed of using proper disposal methods. Developed flowers or seed heads are generally bagged and burned.

Hand Mechanical Control Methods: This method uses hand power tools and includes such actions as mowing, weed whipping, road brushing, root tilling methods, or foaming, steaming, infrared, and other techniques using heat to reduce plant cover and root vigor. Mowing and cutting would be used to reduce or remove above ground biomass. Seed heads and cut fragments of species capable of re-sprouting from stem or root segments would be collected and properly disposed of to prevent them from spreading into uninfested areas.

Cultural Control Methods: Approved methods include any cultural practice known to be useful for treating invasive plants such as mulching with a variety of materials, grazing animals, using fertilizer/soil amendments, competitive planting, or other local remedies that may be determined to be effective (e.g., spraying water/salt/sugar mixtures). Competitive planting would consist of a combination of methods used with planting native vegetation in small areas of disturbance, less than 100 square feet.

Biological Control: Biological weed control activities typically include the release of parasitic and “host specific” insects. Presently, insects are the primary biological control agent in use. Mites, nematodes, and pathogens are used occasionally. Treatments do not eradicate the target species but rather reduce target plant densities and competition with desired plant species for space, water and nutrients. The treated areas would continue to be inventoried and monitored to determine the success of the treatments and when the released bio-control agents have reached equilibrium with the target species.

Responsible Official

The Forest Supervisor, Stan Benes, will be the responsible official for making the decision and providing direction for the analysis. He can be contacted at the address listed above.

Nature of Decision To Be Made

The responsible official will decide what type of methods and how they will be used to control invasive plants on the Malheur National Forest.

Scoping Process

The public is asked to provide the responsible official with written comments describing their concerns about this project. At this time, no public meetings are being planned.

Comment Requested

This notice of intent initiates the scoping process which guides the development of the environmental impact statement. When reviewing the proposed action, bear in mind that the Forest has been operating under direction found in the 1988 Environmental Impact Statement (EIS) and 1988 & 1992 Records of Decision (ROD) for Competing and Unwanted Vegetation and the associated 1989 Mediated Agreement. Treatments under this agreement have previously been by manual control methods. Monitoring has indicated that this approach is not successful. In 2005 the Forest Service's Pacific Northwest Region completed and implemented the Pacific Northwest Region Invasive plant Program FEIS providing new direction and updating the herbicides that would be permitted for use in the Region. The new herbicides offer many advantages over the more limited set allowed previously, including greater selectively, less harm to desired vegetation, reduced application rates, and lower toxicity to animals and people. The proposed treatments will be guided by this FEIS. The most useful comments to developing or refining the proposed action would be site specific concerns and those that can help us develop treatments that would be responsive to our goal to control, contain, or eradicate invasive plants as well as being cost effective. Prevention measures have already been built into the Regional Invasive Plant EIS and will be implemented with all actions occuring on the Forest. The purpose of this proposed action is to begin treatments on known invasive plant sites and provide a mechanism to respond rapidly when new infestations are discovered.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposed so that it is meaningful and alerts an agency to the reviewer's position and contents. Vermont Yankee Nuclear Power Corp. v. NRDC, 435 U.S. 519, 553 (1978). Also, environmental objections that could be raised at the draft environmental statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: March 27, 2006.
Roger W. Williams,
Forest Supervisor.

[FR Doc. 06-3124 Filed 3-30-06; 8:45 am]

BILLING CODE 3410-11-M